DEPARTMENT OF EDUCATION

Privacy Act of 1974, as Amended; Computer Matching Program between the U.S. Department of Education and the Social Security Administration

AGENCY: Department of Education.

ACTION: Notice.

SUMMARY: This document provides notice of the computer matching program between the U.S. Department of Education (ED) and the Social Security Administration (SSA). The computer matching program will begin on the effective date specified in paragraph 5.

SUPPLEMENTARY INFORMATION: This notice is provided under the Privacy Act of 1974, as amended by the Computer Matching and Privacy Protection Act of 1988 (Pub. L. 100-503) and the Computer Matching and Privacy Protection Amendments of 1990 (Pub. L. 101-508) (Privacy Act) (5 U.S.C. 552a); the Office of Management and Budget (OMB) Final Guidance Interpreting the Provisions of Public Law 100-503, the Computer Matching and Privacy Protection Act of 1988, 54 FR 25818 (June 19, 1989); and OMB Circular A-130, Appendix 1.

1. Name of Participating Agencies.

The U.S. Department of Education and the Social Security Administration.

2. Purpose of the Match.

The computer matching program will assist ED in its obligation to ensure that borrowers with disabilities who have loans under title IV of the Higher Education Act of 1965, as amended (HEA) (20 U.S.C. 1070 et seq.), more efficiently and effectively apply for total and permanent disability discharge of their student loans.

3. Authority for Conducting the Matching Program.

ED's legal authority to enter into this computer matching program and to disclose information as part of this computer matching program is section 437 of the HEA (20 U.S.C. 1087(a)), the regulations promulgated pursuant to that section (34 CFR 682.402(c)), and the Privacy Act (5 U.S.C. 552a(b)(3)).

SSA's legal authority to disclose information as part of this computer matching program is section 1106 of the Social Security Act (42 U.S.C. 1306), the regulations promulgated pursuant to that section (20 CFR. part 401), and the Privacy Act (5 U.S.C. 552a(b)(3)).

4. Categories of Records and Individuals Covered by the Match.

The records to be used in the match are described as follows:

ED will disclose to SSA the name, date of birth (DOB), and Social Security number (SSN) of individuals who owe a balance on one or more title IV, HEA loans, or who have a loan written off due to default from the system of records entitled “National Student Loan Data System (NSLDS)” (18-11-06), as last published in the Federal Register in full on June 28, 2013 (78 FR 38963-38969) and as last updated on April 2, 2014 (79 FR 18534-18536).

The ED data described in the preceding paragraph will be matched with SSA data recorded in the Disability Control File (DCF), which originate from the Supplemental Security Income Record and Special Veterans Benefits (SSR/SVB), 60-0103, published in the Federal Register on January 11, 2006 (71 FR 1830) and updated on December 10, 2007 (72 FR 69723), and the Master Beneficiary Record (MBR) SSA/ORSIS 60-0090, published on January 11, 2006 (71 FR 1826) and updated on December 10, 2007 (72 FR 69723) and on July 5, 2013 (78 FR 40542), in order to provide ED with Medical Improvement Not Expected disability data.

5. Effective Date of the Matching Program.

The effective date of the Computer Matching Agreement (CMA) and the date when the match may begin shall be whichever date is the latest of the following three dates: (1) The date of the last signatory to the CMA; (2) at the expiration of the 30-day public comment period following the publication of this matching program notice in the Federal Register; or (3) at the expiration of the 40-day period following ED's transmittal of a report concerning the matching program to OMB and to the appropriate Congressional Committees, along with a copy of the CMA, unless OMB waives 10 or fewer days of this 40-day review period for compelling reasons, in which case, 30 days plus whatever number of the 10 days that OMB did not waive from the date of the transmittal of the report to OMB and Congress. The matching program will continue for 18 months after the effective date and may be extended for an additional 12 months if the conditions specified in 5 U.S.C. 552a(o)(2)(D) have been met.

6. Address for Receipt of Public Comments or Inquiries.

Individuals wishing to comment on this matching program or obtain additional information about the program, including requesting a copy of the computer matching agreement between ED and SSA, may contact Lisa Oldre, Program Operations Specialist, Federal Student Aid, U.S. Department of Education, 830 First Street NE., Washington, DC 20202-5320. Telephone: 202-377-3249. As a secondary contact, individuals may contact Pam Eliadis, Service Director, System Operations & Aid Delivery Management, Federal Student Aid, U.S. Department of Education, 830 First Street NE., Washington, DC 20202-5320. Telephone: (202) 377-3554.

If you use a telecommunications device for the deaf or a text telephone, you may call the Federal Relay Service, toll free, at 1-800-877-8339.

Individuals with disabilities can obtain this document in an alternative format (e.g., braille, large print, audiotape, or compact disc) on request to either contact person listed in the previous paragraph.

Electronic Access to the Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: The Privacy Act of 1974, as amended (5 U.S.C. 552a).

Dated: November 3, 2015.
James W. Runcie,
Chief Operating Officer, Federal Student Aid.

[FR Doc. 2015-28367 Filed 11-5-15; 8:45 am]

BILLING CODE 4000-01-P